DEPARTMENT OF ENERGY

Federal Energy Regulatory Commission

Combined Notice of Filings

Take notice that the Commission has received the following Natural Gas Pipeline Rate and Refund Report filings:

Filings Instituting Proceedings

Docket Numbers: RP14-334-000.

Applicants: Natural Gas Pipeline Company of America.

Description: Negotiated Rate—Tenaska LPS-RO 142972 to be effective 1/1/2014.

Filed Date: 12/31/13.

Accession Number: 20131231-5127.

Comments Due: 5 p.m. ET 1/13/14.

Docket Numbers: RP14-335-000.

Applicants: Iroquois Gas Transmission System, L.P.

Description: Measurement Variance/Fuel Use Factors of Iroquois Gas Transmission System, L.P.

Filed Date: 12/31/13.

Accession Number: 20131231-5133.

Comments Due: 5 p.m. ET 1/13/14.

Docket Numbers: RP14-336-000.

Applicants: Transcontinental Gas Pipe Line Company.

Description: Negotiated Rates—Cherokee AGL—Replacement Shiippers—Jan 2014 to be effective 1/1/2014.

Filed Date: 12/31/13.

Accession Number: 20131231-5136.

Comments Due: 5 p.m. ET 1/13/14.

Docket Numbers: RP14-337-000.

Applicants: Columbia Gas Transmission, LLC.

Description: Penalty Revenue Crediting Report of Columbia Gas Transmission, LLC.

Filed Date: 12/31/13.

Accession Number: 20131231-5140.

Comments Due: 5 p.m. ET 1/13/14.

Docket Numbers: RP14-338-000.

Applicants: Columbia Gulf Transmission Company, LLC.

Description: Penalty Revenue Crediting Report of Columbia Gulf Transmission, LLC.

Filed Date: 12/31/13.

Accession Number: 20131231-5141.

Comments Due: 5 p.m. ET 1/13/14.

Docket Numbers: RP14-339-000.

Applicants: Central Kentucky Transmission Company.

Description: Penalty Revenue Crediting Report of Central Kentucky Transmission Company.

Filed Date: 12/31/13.

Accession Number: 20131231-5142.

Comments Due: 5 p.m. ET 1/13/14.

Docket Numbers: RP14-340-000.

Applicants: Crossroads Pipeline Company.

Description: Penalty Revenue Crediting Report of Crossroads Pipeline Company.

Filed Date: 12/31/13.

Accession Number: 20131231-5143.

Comments Due: 5 p.m. ET 1/13/14.

Docket Numbers: RP14-341-000.

Applicants: Columbia Gas Transmission, LLC.

Description: CCRM Implementation 2014 to be effective 2/1/2014.

Filed Date: 12/31/13.

Accession Number: 20131231-5150.

Comments Due: 5 p.m. ET 1/13/14.

Docket Numbers: RP14-341-000.

Applicants: Columbia Gas Transmission, LLC.

Description: CCRM Implementation 2014 to be effective 2/1/2014.

Filed Date: 12/31/13.

Accession Number: 20131231-5151.

Comments Due: 5 p.m. ET 1/13/14.

Docket Numbers: RP14-342-000.

Applicants: Cheyenne Plains Gas Pipeline Company, L.

Description: Firm Transportation Service Agreement Update to be effective 1/1/2014.

Filed Date: 12/31/13.

Accession Number: 20131231-5236.

Comments Due: 5 p.m. ET 1/13/14.

Docket Numbers: RP14-343-000.

Applicants: Tennessee Gas Pipeline Company, L.L.C.

Description: Volume No. 2—Seneca Resources Corp—Amend Neg Rate Agmt to be effective 1/1/2014.

Filed Date: 12/31/13.

Accession Number: 20131231-5247.

Comments Due: 5 p.m. ET 1/13/14.

Docket Numbers: RP14-305-000.

Applicants: Equitrans, L.P.

Descriptions: Negotiated Rate Service Agreement—EQT Energy to be effective 1/1/2014.

Filed Date: 12/19/13.

Accession Number: 20131219-5127.

Comments Due: 5 p.m. ET 1/6/14.

Docket Numbers: RP14-322-000.

Applicants: Joint Petition of Tallgrass Interstate Gas Transmission, LLC, Anadarko Energy Services Company, and Wyoming Interstate Company, L.L.C.

Descriptions: Grant of Limited Waiver and Request for Expedited Consideration.

Filed Date: 12/23/2013.

Accession Number: 20131223-5269.

Comment Due: 5 p.m. ET 1/6/2014.

Docket Numbers: RP14-324-000.

Applicants: Natural Gas Pipeline of America LLC.

Descriptions: Negotiated Rate Filing—Tallgrass Interstate Gas. To be effective 12/30/2013.

Filed Date: 12/27/2013.

Accession Number: 20131227-5067.

Comment Due: 5 p.m. ET 1/8/2014.

Docket Numbers: RP14-325-000.

Applicants: Texas Eastern Transmission, LP.

Descriptions: Tariff filing per 154.403: EPC FEB 2014 filing to be effective 2/1/2014.

Filed Date: 12/27/2013.

Accession Number: 20131223-5074.

Comment Due: 5 p.m. ET 1/8/2014.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP13-1031-002.

Applicants: Trailblazer Pipeline Company LLC.

Description: Compliance and Motion to place tariff sections into effect (Rate Case) to be effective 1/1/2014.

Filed Date: 12/31/13.

Accession Number: 20131231-5177.

Comments Due: 5 p.m. ET 1/13/14.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2014.
Nathaniel J. Davis, Sr.,
Deputy Secretary.

[FR Doc. 2014-00096 Filed 1-7-14; 8:45 am]

BILLING CODE 6717-01-P